DEFENSE NUCLEAR FACILITIES SAFETY BOARD

Sunshine Act Meeting Notice

Federal Register CITATION OF PREVIOUS ANNOUCEMENT: 78 FR 4393, January 22, 2013.

PREVIOUSLY ANNOUNCED TIME AND DATE OF MEETING AND HEARING: Session I: 1:00 p.m.-5:30 p.m., March 14, 2013; Session II: 7:00 p.m.-9:00 p.m., March 14, 2013.

CHANGES TO OPEN MEETING AND HEARING: The Defense Nuclear Facilities Safety Board (Board) published a notice in the Federal Register of January 22, 2013, (78 FR 4393), concerning a two-session public meeting and hearing on March 14, 2013, at the Amarillo Civic Center, 401 S. Buchanan Street, Amarillo, Texas 79101. The Board changes that notice as follows: (1) Session I will end at 5:00 p.m. instead of 5:30 p.m.; (2) Session II will start at 6:30 p.m. instead of 7:00 p.m.; (3) the topic of safety culture at the Pantex Plant in Session I will also include testimony from the Department of Energy, Office of Health, Safety and Security, in addition to testimony from the National Nuclear Security Administration and its contractor organization; and (4) the topic of emergency preparedness at the Pantex Plant, to include plans and capabilities to respond to a site emergency, demonstrated performance in drills and exercises, and preparation for severe events resulting from natural phenomena such as earthquakes, fires and tornados, has been moved from the end of Session I to the beginning of Session II. The date and place of the meeting and hearing remain unchanged.

CONTACT PERSON FOR MORE INFORMATION: Marcelyn Atwood, General Manager, Defense Nuclear Facilities Safety Board, 625 Indiana Avenue NW., Suite 700, Washington, DC 20004-2901, (800) 788-4016. This is a toll-free number.

Dated: February 13, 2013.
Peter S. Winokur,
Chairman.

[FR Doc. 2013-03796 Filed 2-14-13; 4:15 pm]

BILLING CODE 3670-01-P